DEPARTMENT OF JUSTICE

Antitrust Division

Notice Pursuant to the National Cooperative Research and Production Act of 1993—Telemanagement Forum

Notice is hereby given that, on July 16, 2013, pursuant to Section 6(a) of the National Cooperative Research and Production Act of 1993, 15 U.S.C. 4301 et seq. (“the Act”), TeleManagement Forum (“The Forum”) has filed written notifications simultaneously with the Attorney General and the Federal Trade Commission disclosing changes in its membership. The notifications were filed for the purpose of extending the Act's provisions limiting the recovery of antitrust plaintiffs to actual damages under specified circumstances. Specifically, the following parties have been added as members to this venture: Agiled, Santiago, CHILE; Apigee Corporation, Palo Alto, CA; Aria Systems, Inc., San Francisco, CA; BAIX Corporation, Cheyenne, WY; BASE Company, Brussels, BELGIUM; beCloud, Minsk, BELARUS; BEISIS, Ceroux Mousty, BELGIUM; Booz & Company NA Inc., New York, NY; Cricket Communications, San Diego, CA; DANATEQ PTE. Ltd., Singapore, SINGAPORE; Desfossés Consultation, Québec, CANADA; EE, Hertfordshire, UNITED KINGDOM; Ethio Telecom, Addis Ababa, ETHIOPIA; Federal University of Paraná, Curitiba, BRAZIL; GET AS, Oslo, NORWAY; Ibis Instruments, Belgrade, SERBIA; Innova Bilisim Cozumleri, Maslak, TURKEY; Intelli Solutions S.A., Athens, GREECE; International IT House, Dubai, UNITED ARAB EMIRATES; IPSCAPE Ltd., Bidford on Avon, UNITED KINGDOM; Join Wireless S.A., Hamm, LUXEMBOURG; Latin America Business Consulting Mexico, S.A. de C.V., Atizapán de Zaragoza, MEXICO; Lebara Services Ltd., London, UNITED KINGDOM; Maveric Systems Ltd., Chennai, INDIA; Modern Times Group MTG AB, Stockholm, SWEDEN; Moseco Group, Amman, JORDAN; National Network New Media Center of Engineering Technology Research, Institute of Acoustics, CAS, Beijing, PEOPLE'S REPUBLIC OF CHINA; Network Operations and Management Lab, Institute for Network Sciences and Cyberspace, Tsinghua University, Beijing, PEOPLE'S REPUBLIC OF CHINA; Network Rail, Milton Keynes, UNITED KINGDOM; Nominum, Redwood, CA; Nordiska Servercentralen AB, Bromma, SWEDEN; OFFIS e.V., Oldenburg, GERMANY; ParStream, Inc., Redwood City, CA; Renoir Consulting, Oxford, UNITED KINGDOM; Resolvetel Ltd., Henley-on-Thames, UNITED KINGDOM; Rettungsdienst-Kooperation in Schleswig-Holstein (RKiSH) GmbH, Heide, GERMANY; Singer TC GmbH, Schwedeneck, GERMANY; Synopsis S.A., Lima, PERU; Trendium, Boulder, CO; University of Witwatersrand, School of Electrical & Information Engineering, Johannesburg, SOUTH AFRICA; VC4, Alkmaar, NETHERLANDS; VIVA Bahrain, Seef District, BAHRAIN; VMware, Inc., Palo Alto, CA; Vodafone Qatar, Doha, QATAR; and Zettics, Seattle, WA.

The following members have changed their names: France Telecom to France Telecom Orange, Paris, FRANCE; Infosys Technologies Ltd. to Infosys Ltd., Bangalore, INDIA; MDS to Martin Dawes Systems Ltd. (MDS), Warrington, UNITED KINGDOM; INTRACOM S.A. TELECOM SOLUTIONS to Intracom Telecom, PEANIA, GREECE; SPATIALinfo to Synchronoss, Bridgewater, NJ; Net Servicos—Membership to Net Servicos, Chacara Santo Antonio, BRAZIL; Sooth Inc. to Sooth Technology, Pepper Pike, OH; EnStratus Networks (UK) Limted to Enstratius, Edinburgh, UNITED KINGDOM; OSX Telecomunicacoes S.A. (Visent) to Vísent, Brasilia, BRAZIL; and VTH Solutions LLC d/b/a Cignium Technologies to Cignium Technologies, Fort Lee, NJ.

The following members have withdrawn as parties to this venture: 7P Solutions & Consulting AG, Koeln, GERMANY; Belgacom, S.A., Brussels, BELGIUM; Calltrix Ltd., London, UNITED KINGDOM; Cassidian Systems (formerly Cogent Defence and Security Systems), Newport, UNITED KINGDOM; Digicel Fiji, Suva, FIJI; Digicel Group, Kingston, JAMAICA; Digicel Haiti, Port-au-Prince, HAITI; Digicel Jamaica Ltd., Kingston, JAMAICA; Digicel Panama S.A., Panama, PANAMA; Digicel PNG, Brisbane, AUSTRALIA; Digicel Trinidad, Port of Spain, TRINIDAD AND TOBAGO; ECI Telecom Ltd., Petach Tikva, ISRAEL; Equant, Valbonne, FRANCE; EXIS I.T., Athens, GREECE; France Telecom-Orange, Almondsbury, UNITED KINGDOM; HIKESIYA Co., Ltd., Yokohama-City, JAPAN; Innovise ESM Ltd., Slough, UNITED KINGDOM; Layer 7 Technologies, Vancouver, CANADA; Logica, Green Park, UNITED KINGDOM; Momac, Boca Raton, FL; Neuralitic, Montreal, CANADA; Nexio, Warsaw, POLAND; Nextgen Networks Pty Ltd., Melbourne, AUSTRALIA; NextGenTel AS, Bergen, NORWAY; Progress Software, Waltham, MA; QualiSystems, Ganey-Tikva, ISRAEL; Square Hoop Ltd., Stanmore, UNITED KINGDOM; Sykora Data Center, Ostrava, CZECH REPUBLIC; Synaptitude, Vienna, VA; T-Mobile (UK), Hatfield, UNITED KINGDOM; T-Mobile Hungary Communications Company Ltd. by Shares, Budapest, HUNGARY; Tree Technologies Pvt. Ltd., Bangalore, INDIA; and VMware, Inc., Palo Alto, CA.

No other changes have been made in either the membership or planned activity of the group research project. Membership in this group research project remains open, and the Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on April 2, 2013. A notice was published in the Federal Register pursuant to Section 6(b) of the Act on April 26, 2013 (78 FR 24779).

Patricia A. Brink,
Director of Civil Enforcement, Antitrust Division.

[FR Doc. 2013-19848 Filed 8-14-13; 8:45 am]

BILLING CODE 4410-11-P